INTERNATIONAL TRADE COMMISSION

[Investigation No. 337-TA-813]

Investigations: Terminations, Modifications and Rulings: Certain Electronic Devices With Graphics Data Processing Systems, Components Thereof, and Associated Software

AGENCY: U.S. International Trade Commission.

ACTION: Notice.

SUMMARY: Notice is hereby given that the U.S. International Trade Commission has determined not to review an initial determination (Order No. 32) terminating the above-captioned investigation in its entirety based upon a settlement agreement. The investigation is terminated.

FOR FURTHER INFORMATION CONTACT: Clark S. Cheney, Office of the General Counsel, U.S. International Trade Commission, 500 E Street SW., Washington, DC 20436, telephone 202-205-2661. Copies of non-confidential documents filed in connection with this investigation are or will be available for inspection during official business hours (8:45 a.m. to 5:15 p.m.) in the Office of the Secretary, U.S. International Trade Commission, 500 E Street, SW., Washington, DC 20436, telephone 202-205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on 202-205-1810.

SUPPLEMENTARY INFORMATION: The Commission instituted this investigation on November 14, 2011, based on a complaint filed by S3 Graphics Co., Ltd., of Grand Cayman Islands, British West Indies, and S3 Graphics, Inc., of Fremont, California (collectively, “S3G”). 76 FR 70490 (Nov. 14, 2011). The complaint alleged violations of section 337 of the Tariff Act of 1930, as amended (19 U.S.C. 1337), in the importation into the United States, the sale for importation, and the sale within the United States after importation of certain electronic devices with graphics data processing systems, components thereof, and associated software, by reason of infringement of various claims of four United States patents. The notice of investigation named Apple Inc. of Cupertino, California (“Apple”), as the only respondent.

On November 19, 2012, S3G and Apple filed a joint motion to terminate the investigation based upon a settlement agreement. On December 7, 2012, S3G and Apple supplemented their motion. On December 12, 2012, the Commission investigative attorney filed a response supporting the motion to terminate.

On December 13, 2012, the ALJ granted the motion and issued an initial determination (“ID”) terminating the investigation in its entirety. The ALJ found that termination of the investigation based upon an alternative method of dispute resolution is generally in the public interest. The ALJ further found that granting the motion would not be contrary to the public interest. No petitions for review of the ID were filed.

The Commission has determined not to review the ID. The investigation is terminated.

The authority for the Commission's determination is contained in section 337 of the Tariff Act of 1930, as amended (19 U.S.C. 1337), and in Part 210 of the Commission's Rules of Practice and Procedure (19 CFR part 210).

Issued: January 15, 2013.
By order of the Commission.
Lisa R. Barton,
Acting Secretary to the Commission.

[FR Doc. 2013-01090 Filed 1-18-13; 8:45 am]

BILLING CODE 7020-02-P